DEPARTMENT OF TRANSPORTATION

Federal Transit Administration

Notice of Intent To Prepare an Environmental Impact Statement, Port Authority Bus Terminal Replacement Project, City of New York, New York County, New York

AGENCY: Federal Transit Administration, DOT.

ACTION: Notice of intent to prepare an Environmental Impact Statement.

SUMMARY: The Federal Transit Administration (FTA), as lead Federal agency, and the Port Authority of New York and New Jersey (PANYNJ) as local project sponsor and joint lead agency, intends to prepare an Environmental Impact Statement (EIS) to evaluate potential benefits and impacts of the PANYNJ proposal (the Proposed Project) to construct a new Bus Terminal and associated infrastructure (the Replacement Facility) in Midtown Manhattan in the City of New York, New York. The Proposed Project to be evaluated in the EIS includes both the Replacement Facility, and four private, high-rise buildings (three commercial and one mixed-use retail/residential) to be built on PANYNJ property consistent with present as-of-right zoning. The Replacement Facility is necessary because the existing Port Authority Bus Terminal (PABT) has significant capacity and operational constraints, is aging and obsolete, and cannot meet forecasted increases in bus service demand. FTA, in coordination with PANYNJ, will prepare the EIS in accordance with the National Environmental Policy Act (NEPA), the Fixing America's Surface Transportation Act (FAST Act), and, as appropriate, the New York State Environmental Quality Review Act (SEQRA) and City of New York's City Environmental Quality Review (CEQR). This Notice of Intent (NOI) initiates public scoping for the EIS, and provides information on the Proposed Project, the Project's purpose and need, and the alternatives being considered for evaluation in the EIS. This NOI invites public comments on environmental impacts that may be associated with the Proposed Project and alternatives. Interested members of the public, tribes, and agencies are invited to submit comments on the proposed scope of the EIS, PANYNJ's purpose and need, the identification of alternatives to be considered, the environmental benefits and impacts to be evaluated, and any other project-related issues or analyses. In consideration of the Federal Government's COVID-19 Emergency Declaration dated March 13, 2020, FTA has determined that virtual public meetings and hearings are a permissible and useful tool to provide for public involvement in the NEPA process.

DATES: The 45-day public scoping period will begin on the date of publication of this Notice and continue through July 19, 2021. Written comments may be submitted in hard copy via mail, electronically via email, and through the project website to the addresses listed in ADDRESSES below. Comments may also be provided via voicemail at (929) 502-7304. Although the public can send comments through the mail, due to the COVID-19 national emergency, we recommend using the other communication methods to provide any scoping comments.

Instructions for participating in the livestream virtual scoping meetings are available at www.pabtreplacement.com, along with scoping material. The registration instructions will be available on the Port Authority project website a minimum of two weeks prior to the public meeting. PANYNJ will conduct livestreamed virtual public scoping meetings on June 23 and 24, 2021, from 2:30 p.m. to 4:00 p.m., and from 6:30 p.m. to 8:00 p.m.

Individuals who require special assistance, such as translation, captioning, or signing services, to participate in the scoping meeting should make the request by calling (929) 502-7304 or emailing PABTReplacementNEPA@panynj.gov by June 17, 2021.

To ensure consideration during the development of the EIS, written comments on the scope of the EIS must be submitted by 5:00 p.m. on July 19, 2021. The date of all public scoping meetings will be announced at least 15 days in advance of the actual meetings through a notice to be published in local newspapers and online on the project's website at www.pabtreplacement.com.

ADDRESSES: Please send written comments to: The Port Authority of New York and New Jersey, World Trade Center, 150 Greenwich Street, 25th Floor, New York, NY 10007; Attention: Elizabeth Rogak.

Or Project Email: PABTReplacementNEPA@panynj.gov.

Or leave a comment via voicemail at: (929) 502-7304.

Information about the Proposed Project, scoping, and the EIS will be available on the project's website at www.pabtreplacement.com.

FOR FURTHER INFORMATION CONTACT: Donald Burns, FTA Director of Planning and Program Development, Email: Donald.Burns@dot.gov; Telephone: (212) 668-2203.

SUPPLEMENTARY INFORMATION: Proposed Project. PANYNJ is proposing to replace the existing PABT and associated facilities, including the terminal and ramps. Completion of the Replacement Facility is anticipated by 2032 and the four private, high-rise buildings by 2040. The project contemplates use of PANYNJ land and air rights for private development to help fund the Replacement Facility. PANYNJ allocated $3.5 billion towards the Replacement Facility in its 2017 ten-year capital program, and PANYNJ intends to seek financial support for the project from the United States Department of Transportation, including FTA funding. The Replacement Facility is included in the Metropolitan Transportation Plans of the New York Metropolitan Transportation Council and the North Jersey Transportation Planning Authority, as a regionally significant project.

Purpose of and Need for the Proposed Replacement Facility. The Replacement Facility's primary purpose is to meet the forecasted Trans-Hudson commuter and intercity bus and passenger demand for bus services that operate within the PABT. The proposed Replacement Facility is intended to: (1) Address capacity constraints and operational limitations of the existing PABT; (2) improve bus storage and staging to reduce bus idling and on-street congestion; and (3) improve bus network reliability. The existing PABT suffers from the pressures of accommodating growing travel demand with aging infrastructure and systems, increasingly problematic functional and physical obsolescence of assets and facilities, and fundamental capacity challenges. Without significant investment, the existing PABT South Wing bus operating levels are likely to be functionally obsolete between 2027 and 2037. In addition, the system of roadways, tunnel facilities, and services connecting to the Midtown core and the PABT are increasingly sensitive to disruption.

Based on the above purpose and need, PANYNJ established the following project goals for the Replacement Facility:

• Improve Trans-Hudson bus operations;

• Improve the passenger experience within the Terminal;

• Provide seamless passenger accessibility (including, as applicable, ADA-compliant accessibility) to Eighth Avenue mass transit options;

• Strive to achieve consistency with local and regional land use plans and initiatives;

• Develop a project that optimizes life-cycle costs; and

• Reduce the impacts of bus services on the built and natural environment.

Objectives were identified to assess achievement of each project goal in the Final Scoping Report.

Scoping. Consistent with NEPA, PANYNJ conducted early scoping and planning to identify a Locally Preferred Alternative, which FTA will consider during the NEPA scoping process. PANYNJ released its Draft Scoping Document on May 23, 2019, commencing a 120-day public comment period on the Project. PANYNJ held public meetings in New York City and New Jersey on July 10, 2019 and September 5, 2019.

PANYNJ released a Final Scoping Report on January 21, 2021. In the Final Scoping Report, PANYNJ summarizes the process and evaluations undertaken since the Draft Scoping Document, as well as the public outreach conducted during early scoping. For this phase of the Project the NEPA Scoping Information Packet released with the NOI can be found on the project website.

Screening of Potential Alternatives. PANYNJ identified 13 potential alternatives for the Proposed Project in the Draft Scoping Document, drawn from extensive earlier planning and public outreach. PANYNJ screened these alternatives and narrowed them to the three listed below based on criteria requiring that an alternative: (1) Meet projected demand for bus passenger service in 2040, and (2) not utilize significant private property.

• The Build-in-Place Alternative, which would replace the current terminal at its same location;

• The Perkins Eastman Design and Deliverability Alternative, which would place all operations at the lower levels of the Jacob K. Javits Convention Center (Javits Center); and

• The Regional Plan Association (RPA) Alternative, which would locate commuter operations at a rehabilitated terminal at the present location, and intercity bus operations and storage/staging in a portion of the lower level of the Javits Center.

Based on public comments, PANYNJ developed a third screening criterion: (3) Maintain the present seamless passenger connectivity to the Eighth Avenue mass transit options and pedestrian accessibility to those options and Midtown. As noted in the Final Scoping Report, this criterion eliminated the remaining two alternatives that used the Javits Center, which is remote from the Eighth Avenue mass transit options and Midtown, with the Build-In-Place Alternative remaining.

The Enhanced Build-in-Place Alternative. PANYNJ incorporated public and stakeholder comments into its planning process, as well as two concepts received during early scoping: (1) Construct an additional structure within PABT property to accommodate certain curbside intercity buses and bus storage/staging operations, rather than utilize local streets/surface lots; and (2) have this additional structure serve as “swing space” for bus terminal operations during construction of the new PABT, allowing continuous bus service operation. After conducting further design and analysis, PANYNJ developed an Enhanced Build-in-Place Alternative (the Locally Preferred Alternative) that would comprise:

• Passenger operations in an East (or Main) Facility, generally occupying the footprint of the existing PABT and ramps between Eighth Avenue and Ninth Avenue between 40th Street and 42nd Street, with an enclosed multi-level portion extending across Ninth Avenue between 40th Street and 41st Street, an enclosed multi-level portion extending across 40th Street between Ninth Avenue and Tenth Avenue, and an underpass under Ninth Avenue between 40th Street and 41st Street linking Dyer Avenue to the Lower Level;

• A new building (the West Adjunct) for permanent commuter bus storage and staging, as well as permanent intercity bus storage and intercity bus operations, occupying the western portion of the block between Ninth Avenue and Tenth Avenue between 39th Street and 40th Street, connected to the East Facility through an enclosed pedestrian and vehicular structure crossing 40th Street;

• A new ramp structure located west of Tenth Avenue (on Galvin Plaza between Eleventh Avenue and existing Ramp 96), with new ramps crossing Tenth Avenue to connect to the East Facility; and

• Open space/green space on two blocks: Lot 9, between 37th Street and 38th Street and Ninth Avenue and Tenth Avenue, and Lot 10, between 38th Street and 39th Street and Ninth Avenue and Tenth Avenue. During phased construction, deck-overs of these spaces would be used to accommodate operational needs. When construction is complete, these deck-overs would be converted from operational space to green space, resulting in approximately three additional acres of new community space.

The “swing space” concept would allow the new terminal to be built from the ground up, as is typical, rather than “top-down” over the existing terminal (i.e., the upper floors would be built over the existing operating terminal, with new floors built below the upper floors as construction progresses). Once the East Facility is constructed, the West Adjunct would be repurposed for bus storage and staging and to accommodate certain curbside intercity buses.

PANYNJ seeks to offset increased costs in the Enhanced Build-in-Place Alternative by generating revenue from new joint-development, and by seeking additional financial assistance from FTA. PANYNJ may seek additional financial assistance from other government sources.

The private development would be comprised of four high-rise buildings built entirely on PANYNJ properties in the vicinity of the Replacement Facility, consistent with present as-of-right zoning (three commercial and one mixed-use retail/residential), at the following locations:

• West side of Eighth Avenue between 41st Street and 42nd Street (up to approximately 3.0 million gross square feet of commercial space);

• East side of Ninth Avenue between 40th Street and 41st Street (up to approximately 2.0 million gross square feet of commercial space);

• East side of Eleventh Avenue between 39th Street and 40th Street (up to approximately 2.3 million gross square feet of commercial space); and

• West side of Tenth Avenue between 39th Street and 40th Street (up to approximately 900,000 gross square feet of mixed-use (retail/residential) space).

EIS Process and Role of Participating Agencies and the Public. FTA and PANYNJ are proposing a Study Area for the EIS to include an area approximately ¼-mile from the proposed Replacement Facility, which is inclusive of any potential new construction, temporary operations, or any on- or off-site construction activities. Since the Proposed Project comprises several integrated components, a broad Study Area has been defined to capture those blocks containing, or substantially adjacent to, potential new construction. The Study Area is defined as the area from the Hudson River east to Sixth Avenue, and from 30th Street to 49th Street. This is the area where potential primary direct or indirect impacts may be experienced.

Consistent with NEPA, FTA and PANYNJ will evaluate, with input from the public, and other Federal, State, and local agencies, the potential impacts of the proposed alternatives on the natural, built, and social environments from both construction and operation. The EIS will evaluate the potential for impacts in at least the following areas: Land use, zoning and public policy, community facilities, open space, socioeconomic conditions, environmental justice, air quality (including consideration of greenhouse gas emissions and climate change), historic properties and cultural resources, urban design and visual resources, transportation, noise and vibration, natural resources, water quality, utilities, energy, contaminated materials, construction, and safety and security. Potential impacts have been preliminarily identified in the following areas: Potential historic impacts to the McGraw-Hill Building (National Historic Landmark/National Register of Historic Places) and the Garment Center Historic District (National Register of Historic Places); Potential traffic impacts in the vicinity of PABT and adjoining streets; potential air quality impacts; and potential noise impacts. Measures to avoid, minimize, and mitigate any significant adverse impacts will be identified.

An Agency Coordination Plan (Plan) will be developed within 90 days of this NOI's publication date to guide a comprehensive public outreach program, and once available, it will be published on the project's website and the Federal Permitting Dashboard at https://www.permits.performance.gov/. The Plan will outline outreach to local and county officials and community and civic groups; a public scoping process to define the issues of concern among all parties interested in the Proposed Project; establishment of a Technical Advisory Committee and periodic meetings with that committee; a public hearing on release of the Draft EIS; and development and distribution of project newsletters. Cooperating and Participating agencies may include the United States Environmental Protection Agency, the Advisory Council on Historic Preservation, the United States Department of the Interior, the United States Fish and Wildlife Services, the New York Metropolitan Transportation Authority, the New York City Transit Authority, the New York City Department of Transportation, and the New York City Planning Commission, along with other agencies.

FTA invites comments on the PANYNJ's statement of purpose and need for the Proposed Project, as well as the alternatives proposed for consideration. Suggestions for modifications to the statement of purpose and need, and any other reasonable alternatives that meet the purpose and need for the project, are welcome and will be given serious consideration. Comments on significant environmental impacts that may be associated with the Proposed Project and alternatives are also welcome, as are the identification of information and analyses relevant to the Proposed Project. There will be additional opportunities to participate in the scoping process at the livestreamed, virtual public meetings announced in this Notice.

FTA Procedures. Public comments will be received through those methods explained earlier in this Notice and will be incorporated into a Final NEPA Scoping Information Packet. This document will detail the scope of the EIS and the potential environmental effects that will be considered during the NEPA process. After the completion of the Draft EIS, a public and agency review period, including a public hearing, will allow for input on the Draft EIS. These public comments, as well as any public comments received during the scoping process, along with responses to them, will be incorporated into the Draft EIS for the Proposed Project.

Anticipated Permits and Approvals. The NEPA Scoping Information Packet includes a preliminary list of anticipated permits and approvals from Federal, State, and local agencies. In addition to Federal agency consultations required by the Clean Air Act, the Endangered Species Act, and the National Historic Preservation Act, PANYNJ will coordinate with appropriate City of New York agencies or entities for compliance with local laws. The NEPA EIS will also assist the City of New York in making any applicable CEQR finding.

Aside from potential FTA funding and required consultations identified under the FTA Procedures section above, the following permits or approvals are currently anticipated:

• Section 106 of the National Historic Preservation Act Finding (Memorandum of Agreement or Programmatic Agreement) for historic properties and National Historic Landmarks;

• Approval of possible modifications to local streets/sidewalks by NYCDOT;

• Approval of construction coordination and maintenance and protection of traffic by NYCDOT;

• Approval of possible modifications to the City Map by the New York City Planning Commission; and

• CEQR finding by the City of New York.

Anticipated Schedule for Decision-Making Process. FTA and PANYNJ anticipate the following environmental review schedule, which is subject to change:

• Scoping (Public Scoping Meeting): June 23 and 24, 2021.

• Official Notice of Availability of the Draft EIS published in the Federal Register: Spring/Summer 2022.

• Public Hearings on Draft EIS: Spring/Summer 2022.

• Federal Register Notice of Availability of a Final EIS/Record of Decision (ROD): Spring/Summer 2023.

Combined Final EIS and ROD. In accordance with 23 U.S.C. 139, FTA may consider combining the Final EIS and ROD. If FTA combines the Final EIS and ROD, it is anticipated that those documents will serve as the basis for Federal, and possibly State and City, environmental findings and determinations needed to conclude the environmental review process, unless statutory criteria preclude issuance of a combined document (i.e., the Final EIS makes substantial changes to the proposed action that are relevant to environmental or safety concerns or there is a significant new circumstance or information relevant to environmental concerns that affect the proposed action or its impacts).

Stephen Goodman,
Regional Administrator, Federal Transit Administration—Region II.

[FR Doc. 2021-11729 Filed 6-3-21; 8:45 am]

BILLING CODE P